DEPARTMENT OF HEALTH AND HUMAN SERVICES

Health Resources and Services Administration

Office of Health Information Technology, Office for the Advancement of Telehealth

AGENCY: Health Resources and Services Administration (HRSA), HHS.

ACTION: Notice of non-competitive supplemental funding to Center for Telehealth & E-Health Law.

SUMMARY: The Health Resources and Services Administration (HRSA) is issuing non-competitive supplemental funding under the Office of Health Information Technology, Office for the Advancement of Telehealth, Telehealth Resource Center Grant Program to ensure that the Center for Telehealth & E-Health Law, the National Telehealth Resource Center (NTRC) in Washington, DC, can continue to provide much needed technical assistance services to the Regional Telehealth Resource Centers (RTRCs), HRSA grantees and new and existing telehealth organizations in order to address legal and regulatory barriers to the effective implementation of telehealth technologies at the State and national level.

SUPPLEMENTARY INFORMATION: Intended Recipient of the Award: Center for Telehealth & E-Health Law.

Amount of the Non-Competitive Supplemental Funding: $225,000.

Project Period: The original project period for this grant is September 1, 2008, through August 31, 2009.

Period of Supplemental Support: September 1, 2009, through August 31, 2010.

Authority: This activity is under the authority of the Health Care Safety Net Amendments of 2002, section 330I(d)(2) of the Public Health Service Act as amended.

Catalogue of Federal Domestic Assistance Number: 93.211.

Background

The purpose of the National Telehealth Resource Center is to support the RTRCs and other relevant organizations by providing technical assistance to address the policy, legislative, and regulatory barriers that affect telehealth services at the national and State levels, to give guidance to new programs in the development and implementation of an effective sustainable telehealth program and serve as a resource for existing programs regarding changes in technology or other issues affecting telehealth in a State or region. The necessary requirements to serve as a NTRC involve the organization's ability to recognize critical policy, legislative, and regulatory barriers to the deployment of effective telehealth technologies. The NTRC should have a means to facilitate the transfer of knowledge between telehealth programs and others in the field. Additional requirements are the establishment of an effective plan to meet the demands for technical assistance, conduct on-going analysis of the market for its services and track evolving trends in the market. The NTRC has to address the following areas in relation to telemedicine and the exchange of health information across institutions: State and Federal regulations regarding privacy, security, reimbursement, licensure, Internet practice, telecommunications, technology safety, etc.

Justication for Non-Competitive Supplemental Funding

The Telehealth Resource Center Grant Program competition yielded 17 applicants requesting to serve as a Regional Telehealth Resource Center. HRSA received no applications for the National Telehealth Resource Center (NTRC). Since no organization applied to serve in the capacity as a NTRC, it is urgent that the Center for Telehealth & E-Health Law (CTeL) continue to provide its services until next year without disruption when HRSA can conduct a new competition for the provision of these services.

CTeL has served as the National Telehealth Resource Center since September 2006. Continued funding from HRSA will allow CTeL to continue convening telehealth leaders from around the nation to discuss key legal and regulatory issues facing the telehealth industry. CTeL will continue to monitor and analyze State and national legislation, such as reimbursement, licensure, privacy, security and confidentiality, Food and Drug Administration regulation, private credentialing and accreditation issues as well as telecommunications issues, changes in technology or any other barriers that affect the delivery of telehealth services. During the extension CTeL will continue assessing clients' needs to develop technical assistance products as well as a means for marketing these products, maintaining its Web site, providing technical assistance to new and existing telehealth organizations, implementing special projects that involve collaboration among the RTRCs, conducting quarterly roundtables with the RTRC's, planning and inviting the RTRCs to participate in the biannual collaboration meetings. CTeL will also ensure that the RTRC's are adequately represented at all telehealth conferences and events. CTeL will share its expertise in legal and regulatory issues at conferences, work shops and roundtables, including the OAT Annual Telehealth Workshop.

HRSA will hold another full and open competition for the National Telehealth Resource Center in 2010.

FOR FURTHER INFORMATION CONTACT: Dena S. Puskin, Sc.D., Director, or Monica Cowan, Public Health Analyst, Office for the Advancement of Telehealth, Office of Health Information Technology, Health Resources and Services Administration, Room 7C-26, 5600 Fishers Lane, Rockville, MD 20857; phone 301-443-3682 (Puskin) or 301-443-0076; e-mail dpuskin@hrsa.gov or mcowan@hrsa.gov.

Dated: July 16, 2009.
Mary K. Wakefield,
Administrator.

[FR Doc. E9-20518 Filed 8-25-09; 8:45 am]

BILLING CODE 4165-15-P